DEPARTMENT OF ENERGY

Federal Energy Regulatory Commission

[Docket No. CP13-499-000; Docket No. CP13-502-000]

Constitution Pipeline Company, LLC, Iroquois Gas Transmission System, LP; Notice of Availability of the Draft Environmental Impact Statement and Public Comment Meetings for the Proposed Constitution Pipeline and Wright Interconnect Projects

The staff of the Federal Energy Regulatory Commission (FERC or Commission) has prepared a draft environmental impact statement (EIS) for the Constitution Pipeline and Wright Interconnect Projects (projects), proposed by Constitution Pipeline Company, LLC (Constitution) and Iroquois Gas Transmission System, L.P. (Iroquois), respectively, in the above-referenced dockets. Constitution and Iroquois request authorization to construct and operate certain interstate natural gas pipeline facilities in Pennsylvania and New York to deliver up to 650,000 dekatherms per day of natural gas supply to markets in New York and New England.

The draft EIS assesses the potential environmental effects of the construction and operation of the projects in accordance with the requirements of the National Environmental Policy Act (NEPA). The FERC staff concludes that approval of the projects would have some adverse environmental impacts; however, these impacts would be reduced to less-than-significant levels with the implementation of Constitution's and Iroquois' proposed mitigation and the additional measures recommended by staff in the draft EIS.

The U.S. Environmental Protection Agency, the U.S. Army Corps of Engineers, the Federal Highway Administration, and the New York State Department of Agriculture and Markets participated as cooperating agencies in the preparation of the EIS. Cooperating agencies have jurisdiction by law or special expertise with respect to resources potentially affected by the proposal and participate in the NEPA analysis. The U.S. Army Corps of Engineers would adopt the final EIS if, after an independent review of the document, it concludes that its comments and suggestions have been satisfied.

The draft EIS addresses the potential environmental effects of the construction and operation of the facilities in Susquehanna County, Pennsylvania and Broome, Chenango, Otsego, Delaware, and Schoharie Counties, New York. Constitution's project would include 124.4 miles of new 30-inch-diameter natural gas pipeline and appurtenant facilities that include two new meter stations, two pipe interconnections, eleven mainline valves, and one pig launcher and receiver.¹ Iroquois' project facilities would include the addition of 22,000 horsepower of incremental compression and other miscellaneous modifications its existing Wright Compressor Station with.

¹ A pig is an internal tool that can be used to clean and dry a pipeline and/or to inspect it for damage or corrosion.

The FERC staff mailed copies of the draft EIS and this Notice to federal, state, and local government representatives and agencies; elected officials; environmental and public interest groups; Native American tribes; potentially affected landowners and other interested individuals and groups; newspapers and libraries in the area of the projects; and parties to this proceeding. Paper copy versions of this EIS were mailed to those specifically requesting them; all others received a CD version. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments before April 7, 2014.

For your convenience, there are four methods you can use to submit your comments to the Commission. In all instances, please reference the project docket numbers (CP13-499-000 and CP13-502-000) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

(4) In lieu of sending written or electronic comments, the Commission invites you to attend one of the public comment meetings its staff will conduct in the project area to receive comments on the draft EIS. We encourage interested groups and individuals to attend these meetings and present oral comments on the draft EIS. Transcripts of the meetings will be available for review in eLibrary under the project docket numbers. All meetings will begin at 7:00 p.m. and are scheduled as follows:

Date | Location
Monday, March 31, 2014 | Cobleskill-Richmondville High School, 1353 State Route 7, Richmondville, NY 12149, 518-234-3565.
Tuesday, April 1, 2014 | Oneonta High School, 130 East Street, Oneonta, NY 13820 , 607-433-8243.
Wednesday, April 2, 2014 | Afton High School, 29 Academy Street, Afton, New York 13730, 607-639-8200.
Thursday, April 3, 2014 | Blue Ridge High School, 5058 School Road, New Milford, Pennsylvania 18834, 570-465-3141.

Any person seeking to become a party to the proceeding must file a motion to intervene pursuant to Rule 214 of the Commission's Rules of Practice and Procedures (18 CFR Part 385.214).² Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

² See the previous discussion on the methods for filing comments.

Questions?

Additional information about the project is available from the Commission's Office of External Affairs, at (866) 208-FERC, or on the FERC Web site (www.ferc.gov) using the eLibrary link. Click on the eLibrary link, click on “General Search,” and enter the docket number excluding the last three digits in the Docket Number field (i.e., CP13-499 and CP13-502). Be sure you have selected an appropriate date range. For assistance, please contact FERC Online Support at FercOnline Support@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/esubscribenow.htm.

Dated: February 12, 2014.
Kimberly D. Bose,
Secretary.

[FR Doc. 2014-03646 Filed 2-19-14; 8:45 am]

BILLING CODE 6717-01-P